DEPARTMENT OF COMMERCE

International Trade Administration

[A-421-805]

Aramid Fiber Formed of Poly Para-Phenylene Terephthalamide From the Netherlands; Final Results of Antidumping Duty Administrative Review

AGENCY: Import Administration, International Trade Administration, Department of Commerce

ACTION: Notice of final results of antidumping duty administrative review.

SUMMARY: On March 8, 2001, the Department of Commerce (the Department) published the preliminary results of the administrative review of the antidumping duty order on aramid fiber from the Netherlands. The review covers one manufacturer/exporter. The period of review (POR) is June 1, 1999, through December 31, 1999.

We received no comments from interested parties on our preliminary results. We have made no changes to the margin calculation. Therefore, the final results do not differ from the preliminary results, where we found that sales of the subject merchandise were made below normal value. The final weighted-average dumping margin for Twaron is listed below in the section entitled “Final Results of Review.”

EFFECTIVE DATE: July 6, 2001.

FOR FURTHER INFORMATION CONTACT: David Salkeld or Michael Grossman, AD/CVD Enforcement, Office VI, Group II, Import Administration, U.S. Department of Commerce, Room 4012, 14th Street and Constitution Avenue, N.W., Washington, D.C. 20230; telephone (202) 482-2786.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR Part 351 (2000).

Background

On March 8, 2001, the Department published the preliminary results of the administrative review of the antidumping duty order on aramid fiber formed of poly para-phenylene terephthalamide (PPD-T aramid) from the Netherlands. See Preliminary Results of Antidumping Duty Administrative Review; Aramid Fiber Formed of Poly Para-Phenylene Terephthalamide from the Netherlands, 66 FR 13879 (March 8, 2001) (Preliminary Results). The review covers one manufacturer/exporter, Teijin Twaron BV (formerly Twaron Products V.o.F.), and its U.S. affiliate, Teijin Twaron USA, Inc. (formerly Twaron Products, Inc.) (collectively Twaron).

On February 8, 2001, the U.S. International Trade Commission (ITC) determined in the five-year (sunset) review that revoking the existing antidumping order on imports of PPD-T aramid from the Netherlands would not likely lead to continuation or recurrence of material injury within a reasonably foreseeable time. As a result of the ITC's negative determination, the existing antidumping duty order on imports of this product was revoked retroactive to January 1, 2000. See Revocation of Antidumping Duty Order on Aramid Fiber Formed of Poly Para-Phenylene Terepthalamide from the Netherlands, 66 FR 14540 (March 13, 2001) (Revocation Notice). Therefore, our review covers sales of this merchandise to the United States during the period June 1, 1999, through December 31, 1999.

Interested parties did not submit case briefs nor did they request a hearing. There have been no changes since the Preliminary Results.

Scope of Review

The products covered by this review are all forms of PPD-T aramid from the Netherlands. These consist of PPD-T aramid in the form of filament yarn (including single and corded), staple fiber, pulp (wet or dry), spun-laced and spun-bonded nonwovens, chopped fiber, and floc. Tire cord is excluded from the class or kind of merchandise subject to this order. This merchandise is currently classifiable under the Harmonized Tariff Schedule of the United States (HTSUS) item numbers 5402.10.3020, 5402.10.3040, 5402.10.6000, 5503.10.1000, 5503.10.9000, 5601.30.0000, and 5603.00.9000. The HTSUS item numbers are provided for convenience and Customs purposes. Our written description of the scope remains dispositive.

Final Results of Review

We received no comments from interested parties on our preliminary results. In addition, we have determined that no changes to our analysis are warranted for purposes of these final results. The final weighted-average percentage margin for Twaron for the period June 1, 1999, through December 31, 1999 is as follows:

Manufacturer/exporter | Margin (percent)
Twaron | 1.03

Assessment

The Department shall determine, and Customs shall assess, antidumping duties on all appropriate entries. In accordance with 19 CFR 351.212(b), we have calculated an importer-specific assessment rate by dividing the total amount of antidumping duties calculated for the importer-specific sales by the total entered value of those same sales. Where the importer-specific assessment rate is above de minimis, we will instruct Customs to assess antidumping duties on that importer's entries of subject merchandise.

Furthermore, as a result of the ITC's negative sunset review determination with regard to PPD-T aramid from the Netherlands, the Department has revoked the antidumping duty order for this case, effective January 1, 2000, and we instructed the Customs Service to terminate suspension of liquidation for all entries of subject merchandise made on or after January 1, 2000. See Revocation Notice, 64 FR 14540. Therefore, we will not issue cash deposit instructions to Customs based on the results of this review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections section 751(a)(1) and 777(i)(1) of the Act.

Dated: June 28, 2001.
Richard W. Moreland,
Acting Assistant Secretary for Import Administration.

[FR Doc. 01-16976 Filed 7-5-01; 8:45 am]

BILLING CODE 3510-DS-P